ENVIRONMENTAL PROTECTION AGENCY

[EPA-R04-OAR-2010-0153-201010-TN; FRL-9133-9]

Adequacy Status of the Knoxville, Tennessee 1997 PM2.5 Attainment Demonstration Motor Vehicle Emissions Budgets for Transportation Conformity Purposes

AGENCY: Environmental Protection agency (EPA).

ACTION: Notice of adequacy.

SUMMARY: In this notice, EPA is notifying the public that EPA has found that the direct particulate matter (PM2.5) and Nitrogen Oxides (NOX) motor vehicle emissions budgets (MVEBs) in the Knoxville, Tennessee Attainment Demonstration Plan for the 1997 PM2.5 standard, submitted April 4, 2008, by the Tennessee Department of Environment and Conservation (TDEC), are adequate for transportation conformity purposes. On March 2, 1999, the United States Court of Appeals for the District of Columbia Circuit (DC Circuit) ruled that submitted State Implementation Plans (SIPs) cannot be used for transportation conformity determinations until EPA has affirmatively found them adequate. As a result of EPA's finding, the Knoxville, Tennessee area, including the portion of Roane County, must use the MVEBs for future conformity determinations for the 1997 PM2.5 standard.

DATES: The adequacy finding for the PM2.5 and NOX MVEBs are effective April 22, 2010.

FOR FURTHER INFORMATION CONTACT: Kelly Sheckler, Environmental Scientist, U.S. Environmental Protection Agency, Region 4, Air Planning Branch, Air Quality Modeling and Transportation Section, 61 Forsyth Street, SW., Atlanta, Georgia 30303. Ms. Sheckler can also be reached by telephone at (404) 562-9222, or via electronic mail at sheckler.kelly@epa.gov. The finding is available at EPA's conformity Web site: http://www.epa.gov/otaq/stateresources/transconf/adequacy.htm

SUPPLEMENTARY INFORMATION: This notice is simply an announcement of findings that EPA has already made. EPA Region 4 sent a letter to TDEC on February 11, 2010, stating that the PM2.5 and NOX MVEBs in the 1997 PM2.5 attainment demonstration for Knoxville, Tennessee, submitted April 4, 2008, are adequate and must be used for transportation conformity determinations in the Knoxville area. EPA posted the availability of the Knoxville MVEBs on EPA's Web site on April 14, 2008, as part of the adequacy process, for the purpose of soliciting comments. The comment period ran from April 14, 2008, through May 14, 2008. During EPA's adequacy comment period, no comments were received on the MVEBs for the area. Through this notice, EPA is informing the public that these MVEBs are adequate for transportation conformity. EPA's findings have also been announced on EPA's conformity Web site: http://www.epa.gov/otaq/stateresources/transconf/adequacy.htm. The PM2.5 and NOx MVEBs are provided in the following table:

Knoxville Area Direct PM2.5 and NOX MVEBs
[Tons per year]
Counties | Pollutant | 2009
Anderson, Blount, Knox, Loudon and a portion of Roane County | PM2.5 | 283.63
Anderson, Blount, Knox, Loudon and a portion of Roane County | NOX | 18,024.9

Transportation conformity is required by section 176(c) of the Clean Air Act, as amended in 1990. EPA's conformity rule requires that transportation plans, programs and projects conform to State air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 Code of Federal Regulations 93.118(e)(4). Please note that an adequacy review is separate from EPA's completeness review, and it also should not be used to prejudge EPA's ultimate approval of the attainment demonstration plan for the Knoxville, Tennessee area. Even if EPA finds the budget adequate, the attainment demonstration plan could later be disapproved.

EPA has described the process for determining the adequacy of submitted SIP budgets in a May 14, 1999, memorandum entitled “Conformity Guidance on Implementation of March 2, 1999, Conformity Court Decision. EPA has followed this guidance in making this adequacy determination. This guidance is incorporated into EPA's July 1, 2004, final rulemaking entitled “Transportation Conformity Rule Amendments for the New 8-hour Ozone and PM2.5 National Ambient Air Quality Standards and Miscellaneous Revisions for Existing Areas; Transportation Conformity Rule Amendments: Response to Court Decision and Additional Rule Changes” (69 FR 40004).

Within 24 months from the effective date of this notice, the transportation partners will need to demonstrate conformity to the new MVEBs, if the demonstration has not already been made, pursuant to 40 CFR 93.104(e). See, 73 FR 4419 (January 24, 2008).

Authority: 42 U.S.C. 7401 et seq.

Dated: March 17, 2010.
Beverly H. Banister,
Acting Regional Administrator, Region 4.

[FR Doc. 2010-7879 Filed 4-6-10; 8:45 am]

BILLING CODE 6560-50-P